DEPARTMENT OF ENERGY

Federal Energy Regulatory Commission

[Docket No. CP01-22-000; CP01-23-000; CP01-24-000; and CP01-25-000]

North Baja Pipeline LLC; Notice of Applications

November 8, 2000.

Take notice that on November 1, 2000, North Baja Pipeline LLC (“NBP”), 1400 SW Fifth Avenue, Suite 900, Portland, Oregon 97201, filed applications in Docket Nos. CP01-22-000 and CP01-23-000 pursuant to Sections 7(c) and 3 of the Natural Gas Act, respectively. In these applications, NBP seeks a certificate of public convenience and necessity to construct, install, own, operate and maintain a new interstate natural gas pipeline and ancillary facilities as well as authorization and a Presidential Permit to construct, operate and maintain pipeline facilities at the international border. Further, NBP seeks in Docket No. CP01-24-000 a blanket certificate pursuant to Subpart G of Part 284 of the Commission's regulations to provide open-access transportation of natural gas for others. Moreover, in Docket No. CP01-25-000, NBP requests a blanket certificate pursuant to Subpart F of Part 157 of the Commission's regulations to perform certain routine activities and operations.¹ NBP also seeks approval of its initial rates and pro forma tariff provisions included in Docket No. CP01-22-000, et al. The applications may be viewed on the Commission's web site at http://www.ferc.fed.us/online/rims.htm (call 202-208-2222 for assistance).

¹ NBP submitted Docket Nos. CP01-22-000, CP01-24-000, and CP01-25-000 (Docket No. CP01-22-000, et al.) as one filing and separately filed its request for a Presidential Permit in Docket No. CP01-23-000.

NBP submits that it is a limited liability company formed under the laws of the State of Delaware, with its principal place of business in Portland, Oregon. NBP further states that it is owned by PG&E Gas Transmission Holdings Corporation.

NBP states that within three days of issuance of this notice, it will provide notice to directly affected and adjacent landowners notifying them that NBP's request to construct facilities has been filed. NBP states that this notification will include the information required by the Commission regulations.

NBP proposes to construct and operate a pipeline system, which would carry 500,000 Mcf per day of natural gas from an interconnection point with El Paso Natural Gas Company (“El Paso”) near Ehrenberg, Arizona. At this proposed interconnect, NBP proposes to construct the Ehrenberg Compressor Station that would consist of three 6,270 horsepower (hp), gas fired centrifugal compressor units (with one additional 6,270 hp spare unit). The proposed system would extend approximately 79.8 miles through southeast California, to a point on the International border between Yuma, Arizona and Mexicali, North Baja California, Mexico. NBP's mainline facilities would consist of approximately 11.5 miles of 36-inch from the Ehrenberg Compressor Station and 68.3 miles of 30-inch pipe to the international border. At the international border, NBP indicates that it would interconnect with a similarly sized pipeline, Gasoducto Bajanorte, to be constructed by Sempra Energy Mexico (“Sempra”). Gasoducto Bajanorte would then transport gas west through Mexicali and on to Tijuana, Mexico, where it would interconnect with an existing pipeline, Transportadora de Gas Natural de Baja California (“TGN”). It is stated that TGN runs from Rosarito, Mexico, to an interconnection with the facilities of San Diego Gas and Electric Company at the San Diego/Tijuana border.

NBP asserts that its filings meet the requirements of the Commission's regulations regarding certificate applications and the standards set forth in the Commission's Statement of Policy issued in Docket No. PL 99-3-000. Specifically, NBP states that, as a new pipeline, its project passes the Commission's “no subsidies” test, and further, its project was developed to eliminate or minimize impacts on the potentially affected interests of existing customers, captive shippers of existing pipelines, and landowners and the environment.

NBP states that it held an open season in which it made capacity on its system available to interested shippers on a not unduly discriminatory basis. As a result, NBP indicates that it has executed precedent agreements with four shippers for more than 300 MDth of long-term firm transportation service, representing approximately 60 percent of its total proposed capacity. NBP asserts that the executed precedent agreements demonstrate that there is market demand for natural gas transportation service on NBP. NBP further asserts that the market study included in Exhibit I in Docket No. CP00-22-000 et al., demonstrates that projected growth in gas demand in Northern Mexico and Southern California markets supports its project.

NBP proposes to provide open-access firm transportation service under Rate Schedule FTS-1 and interruptible transportation service under Rate Schedule ITS-1, under rates, terms and conditions set forth in its pro forma tariff submitted with Docket No. CP00-22-000, et al. NBP proposes to offer both negotiated and recourse rates. NBP's submits that its proposed recourse rates are cost-of-service rates, designed under the straight-fixed variable method. NBP states that during its open season process it offered firm shippers the choice of negotiated or recourse rates and each shipper who executed a precedent agreement elected negotiated rates.

NBP estimates that the total capital cost of constructing the pipeline and appurtenant facilities will be approximately $146 million (inclusive of AFUDC). Of the total estimated capital construction cost, NBP states that $110 million relates to pipeline and ancillary facilities, and $36 million relates to a compressor station. NBP anticipates that the initial capital structure on the in-service date will be 70 percent debt and 30 percent equity, with an 8.5 percent cost of debt. It proposes a 14 percent return on equity. NBP further requests that the Commission grant any waivers of its regulations that the Commission may deem necessary to grant the relief requested in its applications.

NBP proposes an in-service date by September 1, 2002. NBP requests that the Commission issue a Preliminary Determination with respect to nonenvironmental issues by June 15, 2001, and a final certificate by January 9, 2002, so that NBP can meet its proposed in-service date.

Any questions regarding the applications should be directed to John A. Roscher, Director, Rates and Regulatory Affairs, North Baja Pipeline LLC, 1400 SW Fifth Avenue, Suite 900, Portland, Oregon 97201, phone: (503) 833-4254.

Any person desiring to be heard or to make any protest with reference to said applications should on or before November 29, 2000, file with the Federal Energy Regulatory Commission, Washington, D.C. 20426, a petition to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a petition to intervene in accordance with the Commission's Rules. Comments and protests may be filed electronically via the Internet in lieu of paper. See, 18 CFR 385.2001(a)(1)(iii) and the instructions on the Commission's web site at ­ http://www.ferc.fed.us/efi/doorbell.htm.

Take further notice that, pursuant to the authority contained in and subject to the jurisdiction conferred upon the Federal Energy Regulatory Commission by Sections 3 and 15 of the Natural Gas Act and the Commission's Rules of Practice and Procedure, a hearing will be held without further notice before the Commission or its designee on these applications if no petition to intervene is filed within the time required herein, if the Commission on its own review of the matter finds that a grant of the certificate is required by the public convenience and necessity. If a petition for leave is timely filed, or if the Commission on its own motion believes that a formal hearing is required, further notice of such hearing will be duly given. Under the procedure herein provided for, unless otherwise advised, it will be unnecessary for NBP to appear or to be represented at the hearing.

Linwood A. Watson, Jr.,
Acting Secretary.

[FR Doc. 00-29206 Filed 11-14-00; 8:45 am]

BILLING CODE 6717-01-M